ENVIRONMENTAL PROTECTION AGENCY

40 CFR Part 52

[IL207-1a; FRL-7159-9]

Approval and Promulgation of Implementation Plans; Illinois

AGENCY: Environmental Protection Agency (EPA).

ACTION: Direct final rule.

SUMMARY: EPA is approving new emissions tests averaging provisions for the state of Illinois. The Illinois Environmental Protection Agency (IEPA) submitted the provisions on October 9, 2001 as a requested revision to the Illinois State Implementation Plan (SIP). The new provisions provide that when conducting a compliance test, a source is considered in compliance with the relevant standard if the average of 3 emissions test runs is at or below the level specified in the emissions standard.

DATES: This rule is effective on June 14, 2002, unless EPA receives relevant adverse written comments by May 15, 2002. If adverse comment is received, EPA will publish a timely withdrawal of the rule in the Federal Register and inform the public that the rule will not take effect.

ADDRESSES: You should send written comments to: J. Elmer Bortzer, Chief, Regulation Development Section, Air Programs Branch (AR-18J), U.S. Environmental Protection Agency, Region 5, 77 West Jackson Boulevard, Chicago, Illinois 60604.

You may inspect copies of the State submittal and EPA's analysis of it at:

Regulation Development Section, Air Programs Branch (AR-18J), U.S. Environmental Protection Agency, Region 5, 77 West Jackson Boulevard, Chicago, Illinois 60604.

FOR FURTHER INFORMATION CONTACT: David Pohlman, Environmental Scientist, Regulation Development Section, Air Programs Branch (AR-18J), U.S. Environmental Protection Agency, Region 5, 77 West Jackson Boulevard, Chicago, Illinois 60604, (312) 886-3299.

SUPPLEMENTARY INFORMATION: Throughout this document wherever “we,” “us,” or “our” are used we mean EPA.

Table of Contents

I. What is the EPA approving?

a. What sources may or may not use the emissions tests averaging provisions?

b. What are the criteria for emissions tests averaging?

c. Test plans.

d. Changes to test plans.

II. Analysis of the requested SIP revision.

III. What are the environmental effects of this action?

IV. EPA rulemaking action.

V. Administrative requirements.

I. What Is the EPA Approving?

EPA is approving new emissions tests averaging provisions for the state of Illinois. The new provisions provide that when conducting a compliance test, a source is considered in compliance with the relevant standard if the average of 3 emissions test runs is at or below the level specified in the emissions standard.

a. What Sources May or May Not Use the Emissions Tests Averaging Provisions?

The emissions tests averaging provisions only apply to continuous steady-state units, cyclic steady-state units, or other units that during normal operating conditions produce a consistent pattern of emissions.

Also, the emissions tests averaging provisions may not be used for determining the compliance status of emissions units that are subject to Sections 111 (Standards of Performance for New Stationary Sources) and 112 (Hazardous Air Pollutants) of the Clean Air Act or for units that are being tested for emissions generated by hazardous waste or municipal waste.

b. What Are the Criteria for Emissions Tests Averaging?

For emissions tests averaging to be used, the provisions require at least 3 valid test runs to be conducted. However, compliance may be determined with only 2 valid test runs “in the event that a sample is accidentally lost or conditions occur in which one of the test runs must be discontinued because of forced shutdown, failure of an irreplaceable portion of the sample train, extreme meteorological conditions, malfunction or other dissimilar or not-representative circumstances.” If more than 3 valid test runs are conducted, compliance will be determined by averaging all valid test runs.

If the criteria for emissions tests averaging are not met, then each valid test run must meet the applicable limitation.

c. Test Plans

Under the following circumstances, if the owner or operator of an emission unit intends to average emissions tests results for that unit, a test plan must be submitted to the IEPA before testing takes place.

(1) The IEPA makes a written request for a test plan;

(2) A non-standard test method or procedure is to be used;

(3) A source seeks to test at operating parameters that differ from the maximum parameters specified in its operating permit;

(4) A source seeks to deviate from a prior test plan for that emission unit; or,

(5) A test plan for the emission unit is required to be submitted by an Illinois Pollution Control Board order, any court order, consent decree, compliance commitment agreement, or permit provision.

Test plans must specify the purpose of the test, the operating parameters, the test methods, and any other procedures that will be followed when conducting an emissions test.

If the source plans to utilize a test plan previously submitted to the IEPA, a new test plan is not required. The source must submit a notice containing the purpose of the test, the date the previously submitted test plan was submitted, and a statement that the source is relying on a previously submitted test plan.

If a source intends to use a standard test method or procedure, no test plan is required. However, the source must submit a notice containing the purpose of the test, and the standard test method or procedure to be used.

The IEPA is not required to review and approve or disapprove test plans prior to the emissions tests.

d. Changes to Test Plans

Certain types of minor changes to test plans which do not effect the stringency of the limit may be made at the time of testing as long as documentation of the change is submitted with the test results. However, if the changes are not approved in advance, the test results may be disapproved if it is found that a valid test run was not obtained as a result of the change.

II. Analysis of the Requested SIP Revision

Because the averaging provisions apply only to steady-state emissions sources which, by definition, exhibit little variability in emissions, approval of these provisions will not result in an increase in allowed emissions over current rules.

Therefore, EPA is approving this rule.

III. What Are the Environmental Effects of This Action?

As discussed above, the emissions tests averaging provisions apply only to steady-state emissions sources which, by definition, exhibit little variability in emissions. Therefore, approval of these provisions will not result in increased emissions, and will not have an adverse effect on air quality.

IV. EPA Rulemaking Action.

We are approving, through direct final rulemaking, new emissions tests averaging provisions for the state of Illinois. We are publishing this action without prior proposal because we view this as a noncontroversial revision and anticipate no adverse comments. However, in a separate document in this Federal Register publication, we are proposing to approve the SIP revision should adverse written comments be filed. This action will be effective without further notice unless we receive relevant adverse written comment by May 15, 2002. Should we receive such comments, we will publish a final rule informing the public that this action will not take effect. Any parties interested in commenting on this action should do so at this time. If no such comments are received, this action will be effective on June 14, 2002.

V. Administrative Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by June 14, 2002. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Lead, Nitrogen dioxide, Ozone, Particulate matter, Recordkeeping and reporting requirements, Sulfur oxides, Volatile organic compounds.

Dated: March 7, 2002.
David A. Ullrich,
Acting Regional Administrator, Region 5.

For the reasons stated in the preamble, part 52, chapter I, title 40 of the Code of Federal Regulations is amended as follows:

PART 52—[AMENDED]

1. The authority citation for part 52 continues to read as follows:

Authority: 42 U.S.C. 7401 et seq.

Subpart O—Illinois

2. Section 52.720 is amended by adding paragraph (c)(164) to read as follows:

§ 52.720 Identification of plan.

* * * * *

(c) * * *

(164) On October 9, 2001, the Illinois Environmental Protection Agency submitted new emissions tests averaging provisions for the state of Illinois. The new provisions provide that when conducting a compliance test, a source is considered in compliance with the relevant standard if the average of 3 emissions test runs is at or below the level specified in the emissions standard. The emissions tests averaging provisions only apply to units that produce a consistent pattern of emissions. The provisions may not be used for determining the compliance status of emissions units that are subject to Sections 111 (Standards of Performance for New Stationary Sources) and 112 (Hazardous Air Pollutants) of the Clean Air Act or for units that are being tested for emissions generated by hazardous waste or municipal waste. Also submitted on October 9, 2001 was a non-substantive correction in section 283.120 Applicability which corrected typographic errors in citing testing requirements contained in Section 111 and Section 112 of the Federal Clean Air Act.

(i) Incorporation by reference.

(A) Emissions tests averaging provisions for Illinois contained in Illinois Administrative Code Title 35: Environmental Regulations for the State of Illinois, Subtitle B: Air Pollution, Chapter II: Environmental Protection Agency, Part 283: General Procedures For Emissions Tests Averaging. Adopted at 24 Ill. Reg. 14428. Effective September 11, 2000.

(B) Correction to Section 283.120 of the Emissions tests averaging provisions for Illinois contained in Illinois Administrative Code Title 35: Environmental Regulations for the State of Illinois, Subtitle B: Air Pollution, Chapter II: Environmental Protection Agency, Part 283: General Procedures For Emissions Tests Averaging. Expedited Correction Adopted at 24 Ill. Reg. 9657. Effective September 11, 2000.

[FR Doc. 02-8948 Filed 4-12-02; 8:45 am]

BILLING CODE 6560-50-P